DEPARTMENT OF LABOR

Employment and Training Administration

Investigations Regarding Certifications of Eligibility To Apply for NAFTA Transitional Adjustment Assistance

Petitions for transitional adjustment assistance under the North American Free Trade Agreement-Transitional Adjustment Assistance Implementation Act (P.L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than October 30, 2000.

Also, interested persons are invited to submit written comments regarding the subject matter of the petitions to the Director of DTAA at the address shown below not later than October 30, 2000.

Petitions filed with the Governors are available for inspection at the Office of the Director, DTAA, ETA, DOL, Room C-5311, 200 Constitution Avenue, NW., Washington, DC 20210.

Signed at Washington, DC this 11th day of October, 2000.
Linda G. Poole,
Acting Director, Division of Trade Adjustment Assistance.

Appendix
Subject firm | Location | Date received at Governor's office | Petition No. | Articles produced
Asarco (Wkrs) | East Helena, MT | 08/30/2000 | NAFTA-4,122 | Metal products.
Eastman Kodak (Co.) | Rochester, NY | 08/30/2000 | NAFTA-4,123 | Molding for single use cameras.
Kirsch (UAW) | Sturgis, MI | 08/09/2000 | NAFTA-4,124 | Drapery hardware.
Allegheny Ludlum (USWA) | Washington, PA | 08/31/2000 | NAFTA-4,125 | Stainless steels.
Acer America (Co.) | San Jose, CA | 08/28/2000 | NAFTA-4,126 | Computers.
Paramount Headwear (Co.) | Dexter, MO | 08/28/2000 | NAFTA-4,127 | Straw headwear.
Fawn Industries (Co.) | Middlesex, NC | 09/05/2000 | NAFTA-4,128 | Injection molded plastic parts.
Imaging Technologies (Co.) | Cookeville, TN | 08/28/2000 | NAFTA-4,129 | Ink jet systems.
Brown Wooten Mills (Co.) | Mount Airy, NC | 08/14/2000 | NAFTA-4,130 | Socks.
Burlington Resources (Wkrs) | Sidney, MT | 09/06/2000 | NAFTA-4,131 | Oil and gas.
Nova Bus (Co.) | Roswell, NM | 09/01/2000 | NAFTA-4,132 | Transit buses.
Marino Technologies (Co.) | Opa Locka, FL | 09/08/2000 | NAFTA-4,133 | Bulk bags.
Lebanite Corporation (Wkrs) | Lebanon, OR | 09/07/2000 | NAFTA-4,134 | Hardboard.
United States Leather (Co.) | Conover, NC | 09/08/2000 | NAFTA-4,135 | Leather.
Banta Healthcare Group (Wkrs) | Eaton Park, FL | 09/08/2000 | NAFTA-4,136 | Sponges, dental and medical.
Quality Veneer & Lumber—Hanel Lumber (Wkrs) | Hood River, OR | 09/05/2000 | NAFTA-4,137 | Lumber.
Delco Remy International (UAW) | Anderson, IN | 09/07/2000 | NAFTA-4,138 | Starters and alternators.
Lear Corporation (UAW) | Detroit, MI | 08/07/2000 | NAFTA-4,139 | Form seat backs & cushions.
Ultima Trim (Wkrs) | Los Indios, TX | 09/06/2000 | NAFTA-4,140 | Leather seats.
Bru Mar (Wkrs) | Allentown, PA | 09/06/2000 | NAFTA-4,141 | Swimsuits.
Fawn Industrial (Co.) | Maryville, TN | 09/11/2000 | NAFTA-4,142 | Injection molded plastics parts.
Kezar Falls Woolen (Wkrs) | Kezar Falls, ME | 09/11/2000 | NAFTA-4,143 | Wool blend cloth.
Gaffney Manufacturing (Co.) | Spartanburg, SC | 09/08/2000 | NAFTA-4,144 | Ladies apparel.
Wolverine World Wide (Co.) | Rockford, MI | 08/21/2000 | NAFTA-4,145 | Shoes.
AirBoss Polymer Products (IBS) | South Haven, MI | 09/11/2000 | NAFTA-4,146 | Molded rubber products.
Paccar Kenworth (Wkrs) | Seattle, WA | 08/31/2000 | NAFTA-4,147 | Trucks.
Mead Products (PACE) | Kalamazoo, MI | 09/05/2000 | NAFTA-4,148 | Paper.
Qwik Tool (Wkrs) | Lexington, KY | 09/07/2000 | NAFTA-4,149 | Auto products.
Holcroft (Wkrs) | Livonia, MI | 08/17/2000 | NAFTA-4,150 | Heat treating furnaces.
Equitable Production (Wkrs) | Kingsport, TN | 09/15/2000 | NAFTA-4,151 | Natural gas & oil.
Tyco Electronics (Co.) | Boyne City, MI | 08/15/2000 | NAFTA-4,152 | Automative electrical terminals.
General Binding (Wkrs) | Aubun Hills, MI | 08/08/2000 | NAFTA-4,153 | Binders.
Renaissance Industries (USWA) | DuBois, PA | 09/13/2000 | NAFTA-4,154 | Pipe thread protectors.
Alstom Power (Co.) | Kings Mountain, NC | 09/14/2000 | NAFTA-4,155 | Heat recovery steam generators.
Archer Daniels Midland (Wkrs) | Helena, AR | 09/13/2000 | NAFTA-4,156 | Soybean.
Heinz Pet Products (Wkrs) | El Paso, TX | 09/11/2000 | NAFTA-4,157 | Jerky beef & hearty bone dog food.
Thaw Corporation (Co.) | Seattle, WA | 09/13/2000 | NAFTA-4,158 | Garments & requipment.
Fujitsu Computer Products of America, (Co.) | Hillsboro, OR | 09/14/2000 | NAFTA-4,159 | Repair of hard disk drives.
Quality Veneer and Lumber (IAM) | Seattle, WA | 09/19/2000 | NAFTA-4,160 | Lumber.
Evy of California (Wkrs) | Los Angeles, CA | 09/13/2000 | NAFTA-4,161 | Children's & infants wear.
Potlatch (Wkrs) | Pierce, ID | 09/18/2000 | NAFTA-4,162 | Wood products.
Lear Corporation (UAW) | Traverse City, MI | 09/26/2000 | NAFTA-4,163 | Terminal block.
Avalon Payroll Group (Wkrs) | New York, NY | 09/25/2000 | NAFTA-4,164 | Film, television & commercial production.
Sharp Manufacturing Co. of America (IBEW) | Memphis, TN | 09/22/2000 | NAFTA-4,165 | Television sets.
Flowserve (USWA) | Phillipsburg, NJ | 09/20/2000 | NAFTA-4,166 | Engineered pumps.
Rosboro Lumber (Wkrs) | Springfield, OR | 09/18/2000 | NAFTA-4,167 | Lumber plywood.
Tyco Electronics (Co.) | Romeoville, IL | 09/21/2000 | NAFTA-4,168 | Battery packs.
Hoh River Timber (WCIW) | Omak, WA | 09/21/2000 | NAFTA-4,169 | Wood panel products.
Tru Stitch Footwear (UFCW) | Malone, NY | 09/07/2000 | NAFTA-4,170 | Rubber soled slippers.
Fruit of the Loom (Wkrs) | Harlinger, TX | 09/21/2000 | NAFTA-4,171 | Blue jeans.
Ametek Aerospace (IUE) | Wilmington, MA | 09/19/2000 | NAFTA-4,172 | Aircraft.
Caitac Manufacturing (Co.) | Bellingham, WA | 09/25/2000 | NAFTA-4,173 | Denim jeans.
UFE (Wkrs) | El Paso, TX | 09/29/2000 | NAFTA-4,174 | Auto parts.
Jomac Wells Lamont Industry (Wkrs) | Brunswick, MO | 09/28/2000 | NAFTA-4,175 | Gloves.
Potlatch (Wkrs) | Lewiston, ID | 09/18/2000 | NAFTA-4,176 | Plywood products.
Derby Industries (Co.) | Lexington, KY | 09/06/2000 | NAFTA-4,177 | Laser printer.
Montgomery Hosiery Mill (Co.) | Star, NC | 09/26/2000 | NAFTA-4,178 | Hosiery.
GP Timber (Co.) | Central Point, OR | 09/25/2000 | NAFTA-4,179 | Sawlogs.
Plum Creek Timber (Co.) | Pablo, MT | 09/26/2000 | NAFTA-4,180 | Lumber.
Ametek US Guage (IAMAW) | Sellersville, PA | 09/28/2000 | NAFTA-4,181 | Hardware for guage.
Fleetwood Homes of Georgia (Wkrs) | Douglas, GA | 09/29/2000 | NAFTA-4,182 | Lumber.
Paper, Calmenson (USWA) | Bucyrus, OH | 09/26/2000 | NAFTA-4,183 | Grader blades.
Mountaineer Precision Tool & Mold (Wkrs) | Waynesville, NC | 09/27/2000 | NAFTA-4,184 | Injection molds.
Liberty Precision Tool (Co.) | Bassemer City, NC | 09/26/2000 | NAFTA-4,185 | Machine parts.
Excel Finishing (Wkrs) | Old Fort, NC | 09/27/2000 | NAFTA-4,186 | Dying & finishing cloth.
Metal Powder (Co.) | Logan, OH | 09/26/2000 | NAFTA-4,187 | Casting.
M. Fine and Sons (Wkrs) | Loretto, TN | 10/02/2000 | NAFTA-4,188 | Blue jeans.
Talon (Wkrs) | Commerce, CA | 09/29/2000 | NAFTA-4,189 | Metal zippers.
Chilton Toys (PACE) | Seymour, WI | 09/28/2000 | NAFTA-4,190 | Toys.
Cox Target Media Sales (Co.) | Washington, NC | 10/02/2000 | NAFTA-4,191 | Carton & overwrapped samples.
ADM Milling (IBT) | Milwaukee, WI | 09/28/2000 | NAFTA-4,192 | Milling.
MHPG (Co.) | Whitinsville, MA | 09/29/2000 | NAFTA-4,193 | Printed t-shirts.
Wabash Automotive (Wkrs) | Irving, TX | 09/29/2000 | NAFTA-4,194 | Slip ring.
Avery Dennison (Co.) | Crossville, TN | 10/05/2000 | NAFTA-4,195 | Writing instruments.
Swift Denim (Co.) | Erwin, NC | 10/05/2000 | NAFTA-4,196 | Denim fabric.
General Electric (Wkrs) | Erie, PR | 10/03/2000 | NAFTA-4,197 | DC motor.
PPG Industries (USWA) | Springdale, PA | 10/04/2000 | NAFTA-4,198 | Coating's and resin.
United States Sugar (IAM) | Clewiston, FK | 09/19/2000 | NAFTA-4,199 | Sugar.
Crater Lake Potato Distributros (Wkrs) | Kalmaths Falls, OR | 10/03/2000 | NAFTA-4,200 | Package potatoes.
Contract Apparel (Wkrs) | El Paso, TX | 10/09/2000 | NAFTA-4,201 | Pants, wool jackets, blouses.
Samsonite (IBT) | Tucson, AZ | 10/02/2000 | NAFTA-4,202 | Soft side luggage.
EPSG Pipay Services (Wkrs) | Burbank, CA | 10/02/2000 | NAFTA-4,203 | Film crew.
Supply One (Wkrs) | K-Falls, OR | 09/26/2000 | NAFTA-4,204 | Lumber.
North Powder Lumber (Wkrs) | North Powder, OR | 10/06/2000 | NAFTA-4,205 | Studs.
Williamette Industries (WCIW) | Albany, OR | 10/03/2000 | NAFTA-4,206 | Mouldings.
United States Leather (UFCW) | Omaha, NE | 09/11/2000 | NAFTA-4,207 | Leather for auto seathing.
Progress Lighting (Wkrs) | Cowpens, SC | 10/09/2000 | NAFTA-4,208 | Light fixtures.
Century II Staffing—Creighton, Inc. (Wkrs) | Reidsville, NC | 10/06/2000 | NAFTA-4,209 | Military uniforms.
Royal Oak Charcoal (Wkrs) | Paris, AR | 10/09/2000 | NAFTA-4,210 | Charcoal.
Tyco Electronics (Co.) | Clinton Township, MI | 10/04/2000 | NAFTA-4,211 | Auto wiring harness
Bay Club Sportwear (Wkrs) | Copiague, NY | 10/10/2000 | NAFTA-4,212 | Beachwear.
L and L Manufacturing (Wkrs) | Los Angeles, CA | 09/30/2000 | NAFTA-4,213 | Women's & girl's clothing.
Gadsden Machine and Roll (Wkrs) | Gadsden, LA | 10/10/2000 | NAFTA-4,214 | Steel production equipment.

[FR Doc. 00-26719 Filed 10-17-00; 8:45 am]

BILLING CODE 4510-30-M